DEPARTMENT OF LABOR

Employment and Training Administration

[TA-W-54,069]

Phelps Dodge Industries, Inc., Phelps Dodge Magnet Wire Division, El Paso, TX; Notice of Termination of Investigation

Pursuant to section 221 of the Trade Act of 1974, as amended, an investigation was initiated on January 23, 2004, in response to a worker petition filed a company official on behalf of workers at Phelps Dodge Industries, Inc., Phelps Dodge Magnet Wire Division, El Paso, Texas.

The petitioner has requested that the petition be withdrawn. Consequently, the investigation has been terminated.

Signed at Washington, DC, this 9th day of February, 2004.
Richard Church,
Certifying Officer, Division of Trade Adjustment Assistance.

[FR Doc. 04-3921 Filed 2-23-04; 8:45 am]

BILLING CODE 4510-30-P